ENVIRONMENTAL PROTECTION AGENCY

[EPA-HQ-OECA-2014-0044; FRL—9987-99-OEI]

Information Collection Request Submitted to OMB for Review and Approval; Comment Request; NESHAP for Coke Oven Batteries (Renewal)

AGENCY: Environmental Protection Agency (EPA).

ACTION: Notice.

SUMMARY: The Environmental Protection Agency (EPA) has submitted an information collection request (ICR), NESHAP for Coke Oven Batteries (EPA ICR Number 1362.11, OMB Control Number 2060-0253) to the Office of Management and Budget (OMB) for review and approval in accordance with the Paperwork Reduction Act. This is a proposed extension of the ICR, which is currently approved. Public comments were previously requested via the Federal Register on June 29, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 25, 2019.

ADDRESSES: Submit your comments, referencing Docket ID Number EPA-HQ-OECA-2014-0044, to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: The National Emission Standards for Hazardous Air Pollutants (NESHAP) for the regulations published at 40 CFR part 63, subpart L apply to all coke oven batteries, whether existing, new, reconstructed, rebuilt, or restarted. It also applies to all batteries using conventional by-product recovery processes, non-recovery processes, or any new recovery processes. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart L.

Form Numbers: None.

Respondents/affected entities: Coke oven batteries.

Respondent's obligation to respond: Mandatory (40 CFR part 63, subpart L).

Estimated number of respondents: 19 (total).

Frequency of response: Initially, occasionally, and semiannually.

Total estimated burden: 79,800 hours (per year). Burden is defined at 5 CFR 1320.3(b).

Total estimated cost: $8,730,000 (per year), includes $0 annualized capital or operation & maintenance costs.

Changes in the Estimates: There is an adjustment decrease in labor hours from the most recently approved ICR. This decrease reflects revisions to the number of existing respondents that are anticipated to reconstruct or close batteries subject to this standard; the burden reflected in this ICR assumes that reconstruction for one existing facility has been completed. This decrease is not due to any program changes.

Courtney Kerwin,
Director, Regulatory Support Division.

[FR Doc. 2019-03054 Filed 2-21-19; 8:45 am]

BILLING CODE 6560-50-P